DEPARTMENT OF THE INTERIOR

National Park Service

Record of Decision, General Management Plan/Visitor Use and Facilities Plan and Environmental Impact Statement, Voyageurs National Park, Minnesota

AGENCY: NPS, Interior.

SUMMARY: The Department of the Interior, National Park Service (NPS), has prepared this record of decision (ROD) on the final environmental impact statement (EIS) for the general management plan (GMP) and visitor use and facilities plan (VUFP), Voyageurs National Park in Koochiching and St. Louis Counties, Minnesota. This ROD is a statement of the decision made, the background of the project, other alternatives considered, the environmentally preferred alternative, the basis for the decision, measures to minimize environmental harm, whether any actions in the plan constitute an impairment of park resources and values, and public involvement in the decision making process.

The Regional Director, NPS, Midwest Region approved the ROD on January 18, 2002.

FOR FURTHER INFORMATION CONTACT: Superintendent, Voyageurs National Park, 3131 Highway 53, International Falls, Minnesota 56649-8904.

SUPPLEMENTARY INFORMATION: The NPS will implement a slightly modified version of the proposed action described and analyzed in the draft EIS. The modifications made to the proposed action will either not result in any additional or changed environmental impacts from those analyzed in the draft, or will result in impacts similar to those reported in the draft EIS for another alternative.

The selected alternative, referred to in the final EIS as the “modified proposed action” and in the remainder of this ROD as the GMP or “plan,” contains elements of alternatives 1, 2, and 3 and the original proposed action as analyzed in the draft EIS, and presents a balanced approach to resource protection and visitor use. It is also responsive to public comments, many of which indicated the park should not significantly change existing types and levels of recreational use. Although very few changes to existing uses will occur, the plan includes additional trails, including one that links the communities of Kabetogama and Ash River. It will also result in a moderate increase in the number of overnight sites and new day use and visitor destination sites. It further anticipates an upper limit for the number of houseboats that may overnight in the park at one time. Houseboat use will continue at existing levels, and could increase. The specific number of houseboats permitted—the park's carrying capacity for houseboats as directed in 16 U.S.C. 1a-7(b)(3)—will be determined in a subsequent houseboat management plan. That plan will be initiated when the number of overnight houseboats reaches 60 per basin. No sooner than the summer of 2002, the park will begin to require a no-fee, self-registration permit for any overnight use in the park to gather information to guide future decisions.

The plan includes efforts intended to intensify natural resource protection through research and management. The NPS will complete an inventory of natural resources and develop a comprehensive inventory, monitoring and research program. A revised fire management plan will be developed to support a broader range of resource management objectives and to reestablish natural fire regimes without unduly reducing visitation or visitor enjoyment. The park will continue as it does now, to identify, evaluate for significance, plan for, protect and share information about cultural resources, including structures, cultural landscapes, archeological resources, ethnographic resources and collections. Historic properties that represent each cultural resource theme and focus on the park's mission, purpose, significance and interpretive themes will be retained. A monitoring program to determine visitor use, need for resource protection and the quality of the visitor experience will be initiated, and the information gathered from the program used for future, more site-specific planning.

Specifics of the Selected Alternative

Natural and Cultural Resource Management. The NPS intends to implement the alternative identified as “modified proposed action” in the final GMP/EIS. This alternative will expand and intensify natural resource protection efforts through increased inventory and monitoring programs, partnerships, and research. Resource management plans will be revised as needed (such as the Wildland Fire Management Plan and the Lakecountry and Backcountry Site Management Plan) or completed. The park's fire management policy will support a broader range of resource management objectives, including reestablishing natural fire regimes without unduly reducing visitation or visitor enjoyment.

The park will continue to identify, evaluate for significance, plan for, protect, and share information about cultural resources, including structures, cultural landscapes, archeological resources, ethnographic resources, and collections. Cultural resource management will be more proactive with the development and implementation of treatment plans, a formal monitoring program, and more focused public education efforts. The park will retain historic properties that represent each cultural resource theme and focus on the park's mission, purpose, significance, and interpretive themes.

Visitor Use and Facilities. A no-fee, self-registration permit system for overnight summer and winter use will be implemented no sooner than 2002 (use-and-occupancy residents and private landowners would be exempt). Permits will be easy to obtain and will not direct visitors to specific overnight sites. The purpose of the system is to gather information about site use and to educate visitors about park conditions, activities, and rules. A feasibility study, which will be conducted with public input, will be completed within three years to determine if a more formal overnight permit system is warranted.

Also, the feasibility of implementing facility use fees for camping and parking will be studied. Entrance fees are not proposed. A monitoring program for visitor experience and resource protection will be established and be based on information from the no-fee permit system and the overnight permit feasibility study.

Integrated motorized and nonmotorized uses, including fixed-wing aircraft (private and one commercial permit) will be allowed to continue on the four major lakes and the seven designated interior lakes. As is currently the case, only nonmotorized use will be allowed on the other interior lakes. No areas for no-wake boating will be established.

The park will initiate a houseboat management plan when funding and staffing allow and the no-fee, self registration permit information shows overnight houseboat use has reached 60 boats per basin. The plan will address topics such as commercial and private houseboat use, graywater management, users' needs and desires, and the appropriate number of houseboats at one time. Upon completion of the plan, appropriate use limits may be established.

The special use zone near the Kabetogama resort community will be continued, but special events will require a permit and would have to be consistent with the purpose and significance of the park.

The park will continue to provide boats on interior lakes; a fee will be charged beginning in the summer of 2002.

The selected alternative establishes an upper limit for the number of developed sites. Fewer day and overnight use sites (280-320 total sites) will be built than called for under existing plans. The effects of overnight use at undeveloped sites will be studied, and if they are found to be damaging resources or negatively affecting other visitors, these sites will be phased out or other strategies implemented to prevent such damage. Starting in the summer of 2005, fires will be allowed only in metal fire rings at developed sites.

Visitor destination sites that feature special natural or cultural features that could be interpreted will be developed to enhance visitors' appreciation of the park. The park will establish 15 to 20 such visitor destination sites.

In cooperation with partners, a mainland, nonmotorized summer and winter trail will be developed between the Kabetogama Lake and Ash River communities, and the feasibility of extending the trail to Crane Lake studied. Several hiking trails will be built on the Kabetogama Peninsula, and some will link to visitor destinations. Facility expansion at visitor centers will be minimized, and the park will use alternative methods such as outdoor and temporary facilities instead. Visitor information materials will be expanded. A multi-agency visitor center will be developed at Crane Lake. Both the Rainy Lake visitor center and the Crane Lake multi-agency center will operate year-round, while operational hours at the Ash River and Kabetogama Lake visitor centers will be based on demand.

Interpretation, Visitor Services, and Education. A more comprehensive interpretive program will be provided. Visitor services, resource protection, and emergency response will be expanded and improved with increased staffing. A proposed educational institute to provide special programs and to supplement the park's interpretive program will be formed through partnerships.

Park Operations, Facilities, and Partnerships. Park operational facilities will be improved through the development of a Namakan District plan and expanded facilities at Ash River. Ranger and interpretive operations will be expanded into the Kabetogama Ranger Station Historic District. The park will actively pursue partnerships with public, institutional, and private entities to help protect resources and provide for quality visitor experiences and facilities.

Background of the Project

The Planning Process: The planning team, composed of NPS personnel and their contractors, began the planning process by first soliciting comments from the public, agencies and interest groups through newsletters, meetings and presentations. Most of this initial “scoping” was focused on issues facing the park, or visions for the park's future. These issues and those developed by the planning team were used in guiding the appropriate range of alternatives. In addition, the team reviewed NPS policies and guidelines; the mission, purpose and significance statements for Voyageurs; existing plans completed for the park; enabling and subsequent legislation for the park and any other relevant laws and regulations in defining constraints on the range of alternatives.

Each of the alternatives was developed to respond to public desires and concerns, to support the park's mission, purpose and significance, and to avoid unacceptable impacts to resources. Since the majority of commentors indicated during the scoping phase they like the way the park is currently managed and do not feel any major changes are needed, all of the action alternatives reflect this philosophy.

No action, or baseline conditions, is an alternative that the National Environmental Policy Act requires agencies to develop and analyze in environmental documents. The team also initially developed two action alternatives for public review. Alternative 2 (alternative 1 is no action) would focus on resource preservation, partnerships and balanced use. Alternative 3 would emphasize a wide variety of visitor experiences and recreational opportunities. This package was released for public review and comment in May 1999. The input received was used to craft a draft proposed action and to refine the other two action alternatives for analysis in the draft EIS. The official release of this draft GMP/EIS and its required 60-day public review began June 23, 2000 with a notice in the Federal Register. Included in this document was the draft “visitor use and facilities plan,” which includes proposals identical to the proposed action in the GMP/EIS.

The interdisciplinary team responded to all substantive comments on the draft GMP/EIS, and changed the text of the GMP/EIS as necessary. It also reviewed all elements of the draft proposed action to determine whether any changes were warranted either as a result of public comments or additional information. Several small changes were made. For example, a no-fee, self-registration permit system for overnight use was added; the 60 houseboat per basin limit in the selected alternative was changed to allow for the development of a houseboat management plan when overnight use reaches 60 per basin; no day use will be allowed at houseboat sites; no entrance fees will be implemented or studied in the feasibility study; and uses of the park for special events would necessarily be consistent with the purpose and significance of the park. The selected alternative would not result in more than negligible or minor differences in impacts from those analyzed in the draft EIS.

Responses to substantive comments were organized by issue or topic and similar or identical comments were combined. These responses were indexed both by author and by topic and answered in a separate volume (volume 2) of the final GMP/EIS. These letters were also reprinted in this same volume. Volume 1 is the corrected and updated version of information released as the draft GMP/EIS. The full final GMP/EIS was released to the public for a 30-day waiting period beginning October 12, 2001. Thirty-nine comments were received. No new issues or questions were raised in public comments on the final GMP/EIS.

Purpose and Need for Action

Park Mission, Legislative Purpose, and Key Mission Goals: As part of the compliance requirements with the Government Performance and Results Act (Act) of 1993, the NPS developed a legislative mission statement for each unit of the national park system. The Act also requires a purpose statement and mission goals be developed. These were developed in consultation with the public, the Minnesota State Historic Preservation Office, the Minnesota Environmental Protection Agency, other interested agencies and organizations.

The mission statement for Voyageurs National Park is as follows:

Voyageurs National Park preserves the landscapes and scenic waterways that shaped the route of the North American fur traders and defined the border between the United States and Canada. The park and its diverse resources provide outstanding opportunities for outdoor recreation, scientific study, sportfishing, education, and appreciation of the northwoods lake country setting.

The purposes of Voyageurs National Park, according to its legislation, are as follows:

Preserve the scenery, geologic conditions, and interconnected waterways within the park for the inspiration and enjoyment of people now and in the future.

Commemorate the voyageurs' routes and fur trade with the Native peoples of the north, which contributed significantly to the opening of northwestern North America to European settlement.

Preserve, in an unimpaired condition, the ecological processes, biological and cultural diversity, and history of the northwoods lakecountry border we share with Canada.

Provide opportunities for people to experience, understand, and treasure the lakecountry landscape—its clean air and water, forests, islands, wetlands, and wildlife—in a manner that is compatible with the preservation of park values and resources.

The mission goals are desired future conditions for the park. These statements describe what the park should be like and how it should be managed over the next 20 years to achieve these conditions. The key mission goals are:

Voyageurs is restored and protected in a manner that allows natural processes, functions, cycles, and biota to be maintained in perpetuity. An adaptive, ecosystem-based approach to resource preservation has been implemented, with essential data and tools to support a scientifically based management program.

The park's wilderness resources, values, and characteristics are unimpaired, and its suitability for wilderness designation remain undiminished.

Voyageurs' cultural resources, including archeological sites, historic structures, ethnographic resources, cultural landscapes, and historic objects that offer evidence of the long-term human relationship with the environment are preserved.

Visitors continue to find a diversity of quality opportunities in Voyageurs, allowing each person to enjoy the park in a safe and respectful manner, with only minimal conflicts between visitors.

Visitors to Voyageurs National Park have many opportunities to experience solitude and tranquillity, to appreciate the expansive and undeveloped lakeshore and wetlands, and to see and enjoy the abundance and diversity of native plants and wildlife.

The park is nationally and internationally recognized for its unique educational opportunities both at the park and through communications technologies.

Visitor experiences are enhanced by a unified partnership between the park, park concessionaires and incidental business permit holders, and adjacent private and public entities who understand and appreciate the significance of the park and its surrounding lands and people.

The Need for a New GMP

The park's current Master Plan, which was approved in 1980, is no longer adequate to address the policy and operational issues now facing Voyageurs National Park. While the Master Plan guided the NPS's initial efforts in managing the park, conditions have changed over the last 20 years, and that plan does not provide sufficient direction for protecting natural and cultural resources or providing for visitor use. The purpose of this final GMP/EIS and VUFP is to set forth a basic management philosophy for Voyageurs National Park and to provide a framework for future decision making for the next 15 to 20 years.

This project is unique because it also includes a VUFP, in addition to the GMP for Voyageurs National Park. In 1983 Congress passed legislation directing the park to complete a VUFP, but the directive was never funded. In 1996-97 a F ederal mediation process was conducted to address numerous issues about visitor use and management of the park. As a result of this process, the mediation panel recommended the VUFP could be accomplished through the NPS's GMP process. Therefore, the VUFP has been developed in conjunction with the final GMP/EIS. The VUFP addresses the same visitor facilities and uses in the park outlined in the selected alternative, plus it takes a more comprehensive look at the Voyageurs region related to tourism, surrounding visitor use and facilities, and opportunities for working with others outside the park. Since the VUFP proposes the same actions as the selected alternative, the environmental consequences, including cumulative impacts and impairment, are identical.

Other Alternatives Considered

The team analyzed four alternatives, including the no action alternative, which would continue the implementation of existing plans and policies. In each alternative, the park was divided into specific management areas. Land management areas include a developed area, a lakecountry area, a backcountry trail area, and a primitive area. Water management areas include an integrated use area, a nonmotorized use area, and in alternative 2, a no-wake water area. Each management area had a specific set of desired resource conditions and visitor experiences associated with it. The management areas were applied to the entire area of the park, but the locations and extent of each management area depended on the particular emphasis of an alternative. For example, one alternative emphasized more resource preservation with fewer developed facilities for visitor use, while another emphasizes the development of more visitor facilities.

In all management areas and alternatives, motorized uses include the use of motorboats, electric motors, planes (fixed-wing aircraft), houseboats, and snowmobiles. Nonmotorized uses include canoeing, kayaking, paddleboating, rowboating, sailboating, skiing, snowshoeing, and hiking. In all alternatives, the four major lakes remain open for motorized uses.

Alternative 1: Present Course of Action (No Action)

Natural and Cultural Resource Management. Under this alternative the NPS would continue to manage the park to protect natural and cultural resources in accordance with approved current plans and NPS policies as allowed by staffing and funding. Some, but not all, of the park's historic properties would be preserved.

Visitor Use and Facilities. A no-fee permit for all overnight use would be required. Only limited visitor use monitoring would occur.

The four major lakes would continue to have integrated use (motorized and nonmotorized); motorized use would continue on seven interior lakes (Locator, War Club, Quill, Loiten, Shoepack, Little Trout, and Mukooda). The number of houseboats could increase without limitations. The special use zone would remain, but snowmobile “radar runs” would continue to be illegal. All other management areas would be the same as now.

Day and overnight sites would continue to be built to meet the development criteria outlined in the approved 1988 Lakecountry and Backcountry Site Management Plan (about 400 sites total). The use of undeveloped sites would continue. Summer hiking trails would continue to be built as shown in the final EIS for a Wilderness Recommendation (1992), with numerous small loops plus linkages to Peninsula destinations. No changes would be made to the existing winter trail system.

Existing visitor facilities would be retained; year-round visitor interpretive services would be offered at the Rainy Lake visitor center; and seasonal services would be provided at the Ash River and Kabetogama Lake visitor centers.

Interpretation, Visitor Services, and Education. Visitor contact, resource protection, monitoring, and emergency services would remain limited, with heavy dependence on established partnerships.

Park Operations, Facilities, and Partnerships. Park operations would continue in current areas with a limited preventive maintenance program and a strong dependence on volunteers. Existing partnerships would continue; however, only limited partnerships would continue related to fishery and wildlife management and for cultural resource preservation involving educational, institutional, or private entities.

Alternative 2: Resource Preservation, Partnerships, Balanced Uses

Natural and Cultural Resource Management. Under alternative 2 natural and cultural resource protection would be similar to the selected alternative. However, natural fire regimes would be reestablished to the greatest extent possible, even if it caused temporary inconveniences to visitors or a temporary reduction in visitor enjoyment. For cultural resources a greater number of historic properties would be preserved, and fewer sites would be designated as visitor destinations.

Visitor Use and Facilities. Entry/user fees and an overnight permit system with an educational component would be implemented. A visitor experience and resource monitoring program would be established, the same as the selected alternative.

A houseboat permit system would be developed, with a total of 50 overnight houseboats allowed per basin (40 commercial and 10 private houseboats), for a park total of 100. No-wake boating areas would be designated in bays on the four major lakes. Commercial fixed-wing aircraft use would be stopped in the park, and private fixed-wing aircraft use and the use of motors would be prohibited on all interior lakes except Mukooda Lake. Boat rentals on Mukooda Lake would be discontinued. The special use zone would be discontinued.

Fewer day and overnight sites would be built (250-275 total sites) than in any other alternative, and no overnight use at undeveloped sites would be allowed. Day use at overnight sites would be discontinued. Fires would be allowed only in metal fire rings at developed sites. Between 10 and 15 visitor destinations, with interpretive and day use facilities, would be developed.

The proposed Kabetogama-Ash River trail would be developed as described for the selected alternative, but no additional trails would be added to the existing trail system on the Kabetogama Peninsula. A multi-agency visitor center at Crane Lake and an educational institute would be developed (the same as the selected alternative). All visitor centers would operate year-round.

Interpretation, Visitor Services, and Education. Interpretive programs, visitor contact, resource protection, and emergency response would be expanded, as described for the selected alternative. Under alternative 2, however, concession boat rentals would be eliminated at Mukooda Lake.

Park Operations, Facilities, and Partnerships. Park operation facilities and partnerships would be the same as described for the selected alternative.

Alternative 3: Emphasis on Visitor Experience and Opportunities

Natural and Cultural Resource Management. Alternative 3 would build on and incorporate many of the natural and cultural resource elements from the selected alternative and most of the visitor use and facility measures identified in alternative 1. This alternative would be the most aggressive in developing visitor facilities, yet it would also enhance resource preservation efforts to ensure a quality visitor experience. Except for minor changes, natural resource preservation would be the same as the selected alternative. For example, natural fire regimes would be reestablished only when it would not reduce visitor enjoyment or visitor use. Cultural resource actions would be similar to alternative 1, except that visitor facilities and interpretation would be provided at more properties.

Visitor Use and Facilities. A study would be completed to determine the feasibility of an entry/user fee system. The system would only be implemented if needed to offset park operations costs. An overnight permit/reservation system with an educational component would be implemented; however, some sites would be retained for first-come, first-served use. Houseboaters would not be required to make reservations, but would need overnight permits.

A houseboat permit system would be implemented, and a total of 70 overnight houseboats per basin would be allowed (60 commercial and 10 private houseboats), for a park total of 140. The number of houseboats allowed under this alternative would be greater than under alternative 2 or the selected alternative. The four major lakes and all interior lakes would be managed the same as alternative 1, except that expanded commercial fixed-wing aircraft use would be allowed on Kabetogama Lake.

The number of day and overnight sites would be the same as alternative 1 (about 400 total sites); however, the distribution of sites would be different. There would be fewer tent sites, more small campgrounds, more houseboat sites, and more day use destination sites than under alternative 1. There would be more of all types of sites than under the selected alternative (day use sites excepted) or alternative 2. Day use with fires would only be allowed at developed day use sites; day use without fires could occur at undeveloped sites, and day use would not be allowed at overnight sites. No tent camping would be allowed at undeveloped sites; however, houseboaters could moor at developed or undeveloped sites for the night. From 15 to 20 visitor destinations would be developed (the same as the selected alternative).

All summer and winter trails outlined in alternative 1 and the selected alternative would be developed under this alternative. Visitor center expansion would be the same as the selected alternative, plus an environmental education facility would be considered at the Ash River visitor center. At the Kabetogama Lake visitor center the historic structures would be used for visitor education and interpretation, the same as the selected alternative; additional space for interpretation and rangers would also be considered. Year-round operations would be provided at all visitor centers (the same as alternative 2), plus the Crane Lake visitor center would be developed.

Interpretation, Visitor Services, and Education. Interpretive programs, visitor contact, resource protection, and emergency response would be expanded, as described for the selected alternative.

Park Operations, Facilities, and Partnerships. At Ash River facilities for park operations would be expanded the most of any alternative. Partnership development would be the same as the selected alternative.

Environmentally Preferred Alternative

The environmentally preferred alternative is defined by the Council on Environmental Quality as the alternative that best meets the criteria or objectives set out in section 101 of the National Environmental Policy Act. The Council on Environmental Quality interprets these criteria as meaning the alternative that “* * * causes the least damage to the biological and physical environment and best protects, preserves and enhances historic, cultural and natural resources.” The NPS is not obliged to select the environmentally preferred alternative, but is required to identify it in the ROD. The planning team has identified alternative 2 as environmentally preferred.

Specific actions in this alternative are expected to result in benefits for resources relative to the other alternatives include the restriction of overnight tent campers and houseboaters to developed sites only, build out of the fewest developed sites of any alternative; and prohibiting motorized use on all interior lakes except Mukooda. These actions would help vegetation, wildlife, water quality, air quality, species of special concern, soils, and archeological resources.

Parkwide natural and cultural resource management policies that are part of alternative 2 would also result in the greatest benefits of all alternatives to resources in the park. These include vegetation and fire management policies geared toward reestablishing natural fire regimes to the greatest extent possible, maximum preservation of historic structures, and a focus on completing cultural landscape descriptions.

Basis for Decision

The selected alternative (or plan) was chosen because it provides the most desirable combination of resource preservation, visitor interpretation and experience, and cost effectiveness among the alternatives considered. It is most responsive to the legislative mission, purpose, and mission goals of Voyageurs National Park as stated above under “Background.” It also best addresses the issues identified during public scoping but continues to protect important park resources and values.

Public comments gathered during scoping and the review of the draft GMP/EIS were used extensively by the team in defining and revising the proposed action. The majority of the comments indicated visitors wanted the park to offer a broad diversity of visitor experiences while at the same time providing ample opportunities to experience solitude and tranquility. While most comments indicated visitors wanted to retain much of the existing visitor experience, they also requested additional day and overnight sites, trails, visitor destinations and interpretive and educational facilities and services. Many people indicated a concern that the park not become overdeveloped, and stated the level of development in alternative 1 (no action, or implementing existing plans) was too extreme. At the same time, many public comments indicated that alternative 2 was too restrictive and did not develop an adequate number of facilities or provide a broad enough diversity of visitor experiences. The visitor uses and experiences are greater and more diverse than in alternative 2, yet less intensive and/or more restrictive than alternative 1. Where the team was unable to determine with accuracy whether greater or lesser visitor use was appropriate, it spelled out additional data gathering and planning efforts the park would undertake before making these decisions. No actions in the plan will impair or diminish the park's suitability for wilderness designation.

Specifically, the plan will result in more day and overnight sites than had alternative 2 been selected (a maximum of 275 in alternative 2 verses 320 in the plan), but fewer than alternative 1 (~400 sites). It will also result in 3 more group campsites than alternative 2, but 1 fewer than alternative 1. At-large camping in primitive areas for groups of up to 6 people would be allowed; no group limit is imposed in alternative 1, and at-large camping is prohibited in alternative 2. Overnight use of undeveloped sites will continue to be allowed, but the park will initiate a monitoring program to determine whether traditional use has caused unacceptable resource damage, and will consider closing undeveloped sites if this is the case.

Unless the proposed houseboat management plan shows otherwise, more houseboats will be permitted in the selected alternative than alternative 2, but fewer will be allowed than in alternative 1 (100 houseboats per basin in alternative 2, 120 interim permits at one time in the plan and unlimited use in alternative 1).

Since the plan will result in the vast majority of the lakecountry area being developed at a moderate to low density, most visitors will have the opportunity to stay in an area that will feel well separated from other users. Alternative 1 would have meant many more miles of moderate to high-density zoning. A reduction in the maximum group party size from 72 in alternative 1 to 30 will also help ensure visitors have a tranquil experience.

Rather than removing the “Boats on Interior Lakes program” (BOIL) as identified in alternative 2, the plan will continue to provide boats to visitors on several interior lakes, however a fee will be required to encourage visitor responsibility for the boats. In comparison to alternative 2, the plan will allow more interior lakes to remain open to integrated use (same as alternative 1); a few more visitor destinations to the park's natural and cultural resources will be provided; several additional trails will be developed; and either bike lanes or separate bike paths will be provided to park visitor centers. In the plan, the continued integrated use of seven designated interior lakes will allow diverse opportunities for visitors to experience several different backcountry areas and will not be as restrictive as alternative 2. Trail system expansion, as identified in the plan, will afford much greater opportunities for summer and winter access to the backcountry than alternative 2, improve linkages to park destinations and broader visitor exposure to park amenities. These diverse trails will provide access from water and land. Rather than removing the special use zone, as shown in alternative 2, uses in this zone will continue to be allowed when they have a meaningful association between the park area and the event, and the event contributes to visitor understanding of the significance of the park area. In summary, the plan will provide visitors with diverse opportunities to utilize the park during the day and overnight while having a tranquil experience in a natural setting. The plan allows visitors to enjoy the park in a safe and respectful manner, with only minimal conflicts between users.

Interpretive opportunities will be significantly enhanced. Seasons and hours of operation at visitor centers will be expanded (as needed) and a new multi-agency visitor center will be developed at Crane Lake, which is one of the largest visitor entry areas to the park and adjacent regional recreational areas. The development of an educational institute through partnering with other entities will encourage diverse visitation, research, education, and park programming. The institute will likely help expand recognition of the park and provide programs for a wide diversity of people and age groups throughout the nation. Developing a comprehensive interpretive plan focusing on the park's mission, purpose, and significance to a greater depth will help ensure interpretive programs foster in visitors a greater appreciation of park resources. Visitor experiences will be enhanced through opportunities to navigate and understand historic trade routes and to participate in programs that focus on the history of the voyageurs. This will help focus park recreation on one of the most important reasons for the establishment of Voyageurs as a national park. The expansion of educational and outreach programs and the development of new curricula and new communication technologies will help increase visitor participation.

An increased focus on strengthening partnerships will improve communication between the NPS and others for the protection of resources and the development of visitor services. Closer cooperation with the Minnesota Department of Natural Resources and the Ontario Ministry of Natural Resources and the development of a joint fisheries management plan will facilitate unified management actions and enhance the park's natural fisheries. The pursuit of additional partnerships for cultural resources will increase the means and number of people available to conduct treatment and maintenance actions, as well as develop sites for visitor use. Support of cooperative agencies and partnerships for visitor safety will reduce emergency response times, provide increased patrol for everyday activities, help increase a sense of safety for park visitors, and protect resources. Active NPS participation in and support of other agencies' and organizations' planning, zoning, and land use activities will help protect park viewsheds and other values that affect visitor experiences.

The plan will also improve resource preservation and protection, and many of these preservation actions are the same as those spelled out in alternative 2. However, the plan adopts a more cautious approach to decision-making until reliable data clearly justify it, and focuses instead on providing more diversified visitor use without harmful resource consequences. As examples, the plan identifies the need for more intensive study and monitoring before final management decisions are made related to overnight use at undeveloped sites, houseboat management, and facility and overnight fees and reservation systems. These issues are of significant interest to the public with strong representation on both sides of each topic, and the park requires additional visitor use and related resource impact data to make the most appropriate decisions in these areas.

Needed data will be collected via a no-fee overnight permit system to determine visitor use patterns and related resource impacts. Park staff will also be able to educate visitors about park conditions, activities, and rules when permits are issued. In addition, a visitor monitoring system will be implemented to better understand the resource impacts of day and overnight use, restoration needs and visitor use patterns and needs. Indicators and standards for monitoring park resource conditions and visitor experiences in both summer and winter will be established based on findings. The information from these studies will be used in establishing the most appropriate management procedures for natural and cultural resource preservation related to visitor use, carrying capacities, visitor needs and desires, and facility development. The results of these studies will provide much needed information to make justifiable and defensible decisions related to resource preservation and visitor management.

Implementing the plan will also have net benefits for resources in many areas of the park relative to no action. Parkwide actions or policies (see “Measures to Minimize Environmental Harm” below) particularly will help natural and cultural resources. Some of the specific actions in the plan, such as less dense zoning, fewer overnight sites, limiting party sizes, requiring permits for overnight use, and the possibility that undeveloped sites may be closed to prevent resource damage, will also offer benefits for soils, vegetation, water quality, wildlife and archeological resources.

Measures To Minimize Environmental Harm (Mitigation)

Many of the actions described in the final GMP/EIS for the modified proposed action (e.g. the selected alternative, or plan) are geared toward minimizing harm to the park's environmental resources or values. These are listed below:

Parkwide or Policy Measures

Additional inventories of natural resources in the park would be completed to provide accurate baseline data.

A comprehensive inventory, monitoring and research program, including a monitoring program to track resource impacts related to park use, would be implemented.

Nonhistoric cabins that are vacated would be removed so the sites could be restored to natural conditions, although evidence of habitation in the form of chimneys, foundations or similar remnants would remain to preserve the cultural resource.

Resource management plans for fisheries, water resources, vegetation, primitive area management, disturbed land restoration, trails, developed site management, inventory and monitoring, fire management, houseboat management and land protection would be completed or revised and updated as needed to more effectively manage and protect resources and preserve the existing visitor experience.

The park would act to shorten the time for forest communities to retain their natural ecological characteristics and processes and would aggressively combine prescribed fire and planting or seeding of native pine and mixed wood forests to promote these species and improve conditions in park wetlands.

The management of cultural resources would be more proactive than it is currently, particularly through the development and implementation of treatment plans. The most significant resources would be protected through formal monitoring and public education.

Information about overnight visitor use would be collected via a free required permit. This information would help park managers determine how best to accommodate demand without damaging resources.

The requirement to have a permit for overnight use of the park would be used to educate visitors on the practices of low-impact camping and park rules and regulations regarding fire use and campsites. This would help minimize disturbance to vegetation, wildlife, and water quality.

The existing special use zone would be continued. However, a permit would only be issued for activities that contribute to visitor understanding of the significance of the park area and have a meaningful association between the park area and the event would be allowed. Even these activities would be denied if they would impair park resources, create an unsafe or unhealthful environment or unreasonably interfere with the peace or natural soundscape or other park values. Snowmobile “radar runs” would be prohibited.

Pre-park campsites would be examined to ensure they meet the criteria to provide a particular visitor experience and avoid damage to critical resources. Sites that do not meet these criteria would be restored to reverse resource damage, rehabilitated with proper visitor facilities, or closed if needed.

Wetlands

Wetlands would be identified and delineated. Adverse impacts would be avoided or mitigated, as required by law and NPS policy. Restoration for damaged or degraded wetlands would be considered.

Vegetation and Wildlife

Expansion of visitor centers and parking lots would be minimized to reduce impacts to vegetation, wildlife, the visitor experience of a natural area and other resources.

A monitoring study of undeveloped sites to determine whether use was causing unacceptable resource damage to vegetation, soils, wildlife habitat or other resources would be conducted for three years. If the study finds use causes unacceptable adverse impacts, the use of undeveloped sites for overnight stays would be phased out or other strategies implemented.

No open fires in the primitive area of the park would be allowed starting in 2002, and all primitive campers would be required to obtain a permit where they would be educated on leave-no-trace practices.

Water Resources and Water Quality

Sanitation system compliance certificates for blackwater containment would be required for all houseboats in park waters.

The NPS will continue to collect water quality data, and will use adaptive management practices to assure continued ecosystem integrity in park waters.

The park will study the effects of graywater discharge from houseboats in a houseboat management plan.

Fisheries

The park would work more closely with the Minnesota Department of Natural Resources (MDNR), the U.S. Forest Service, the Ontario Ministry of Natural Resources and other agencies to develop cooperative approaches to both fisheries and wildlife management.

The park would partner with the MDNR to develop a fisheries management plan emphasizing the maintenance and reestablishment of native, self-sustaining fish populations.

Threatened or Endangered Species

The selected alternative is not likely to adversely affect listed, candidate, or proposed threatened or endangered species as the “adversely affect” is defined in the regulations implementing the Endangered Species Act. The NPS has received concurrence on this determination from the Twin Cities Field Office of the U.S. Fish and Wildlife Service (FWS). However, implementation of the plan may involve specific projects or additional plans requiring consultation with the FWS and the MDNR. Any action anticipated or conducted by the park that has the potential to adversely affect any listed, proposed or candidate threatened or endangered species would require such consultation and impacts avoided, minimized or otherwise mitigated.

The park intends to continue to use its authorities to protect wildlife of special concern when needed.

Measures to protect wildlife of special concern will continue to be implemented as needed.

Surveys to determine the presence of any federally listed, proposed or candidate plant species or state rare or sensitive species would be conducted for projects implemented as a result of adopting the plan. Any such plants discovered in project areas would be avoided and protected from human disturbance if possible. If not, consultation with the FWS to mitigate impacts would be initiated.

Scenic Quality

When the number of overnight houseboats reaches 60 per basin, a houseboat management plan will be developed to minimize the visual impact to those not occupying houseboats.

Visitor Experience of Solitude

Fewer developed sites than called for in existing plans would be built to provide a less crowded and more secluded lakeshore camping experience. All new sites must meet criteria in existing plans designed to provide this kind of experience and minimize impacts to critical resources.

The park would require groups to keep the party size at tent sites to between 9 and 18, depending on the individual site. The party size of houseboat groups would also be restricted.

The number of shoreline miles zoned to accommodate a high density of campsite development would be reduced from 270 miles to 130 miles.

Camping in the park's primitive areas would be restricted to groups no larger than six people per party.

Cultural Resources

Voyageurs National Park has consulted with the Minnesota State Historic Preservation Office as required and has completed compliance for this stage of the process. Individual actions referred to in the GMP/EIS/VUFP will require additional section 106 compliance.

The park staff would seek greater involvement with Native Americans in planning, resource management and interpretation, and cultural resources associated with the history of tribes in the park would be protected.

All eligible cultural landscapes in the park would be documented.

Recommendations in the Historic Waterway Study would be implemented to protect and interpret significant features along the fur trade route.

Cultural ruins would be actively managed through vegetation control to slow their decline.

Impacts to archeological resources would be prevented by avoiding the area or hardening the surface if possible.

An estimated 16-20 (53% to 67%) of the park's historic properties eligible for the National Register of Historic Places would be actively preserved.

Items representative of the park's natural, cultural and administrative history would be collected, recorded and safely housed.

Visitor Safety

Brochures and other outreach programs to educate visitors on boating etiquette would be created to minimize conflicts between motorized and nonmotorized uses.

Open fires would be allowed only in metal fire rings beginning in the summer of 2005. Staffing would be added to expand visitor contact, resource protection and emergency response capabilities. Safety enforcement activities would be increased.

Trail segments on the Mukooda Lake and Moose Bay portages would be re-routed and consolidated to provide safer snowmobile access.

Impairment

The NPS manages land under its care according to provisions of the 1916 Organic Act (and amendments, including the NPS General Authorities Act of 1970). The key provision of the Organic Act is considered to be the statement that the NPS will manage its lands to “conform to the fundamental purpose” of them. That purpose is defined as “to conserve the scenery and the natural and historic objects and the wild life therein and to provide for the enjoyment of the same in such manner and by such means as will leave them unimpaired for the enjoyment of future generations.” (16 USC 1) It is considered fundamental to management of the park then, that resources and values be conserved, and that they remain unimpaired throughout time for future generations to enjoy.

A resource or value may experience an impact without being impaired, as impairing a resource means its integrity would be harmed. Although there may be limited exceptions, generally an impairment would only occur in cases where a resource or value is expected to also experience a significant adverse impact.

The NPS Management Policies (2001, section 1.4.5) provide guidance on which resources and values are more likely to be considered impaired by actions with adverse impacts. These include those resources or values whose conservation is necessary to fulfill specific purposes identified in the establishing legislation of the park or key to the natural or cultural integrity of the park or to opportunities for enjoying the park.

The act establishing Voyageurs National Park indicates the “outstanding scenery, geological conditions and waterway system which constituted a part of the historic route of the Voyageurs who contributed significantly to the opening of the Northwestern United States, are to be preserved for all generations to enjoy. The actions included in the selected alternative, or “plan,” would not compromise the integrity of the scenery, geological conditions or the route of the Voyageurs, and so would not result in an impairment of these resources.

The additional resources and values considered by the team in deciding whether the potential for impairment exists are defined in the NPS management policies (1.4.6) and include natural and cultural resources, as well as elements of the visitor experience such as solitude, peace and quiet and visual quality.

Many other resources evaluated as part of the GMP/EIS planning process, such as park operations, socioeconomics and aspects of the visitor experience not mentioned above are not included in the impairment finding (see NPS 2001, section 1.4.6 for more information). Only those actions taken by the NPS or under its control are included in findings of impairment.

After careful consideration of all major impacts to these resources that might result from actions taken by the park in implementing the selected alternative, the team found that no impairment of park resources or values would occur. Very few resources would be expected to experience major or significant environmental effects (see Table 7 and chapter 4 of volume 1 of the final GMP/EIS for more information) from implementing the selected alternative (named “modified proposed action” in the GMP/EIS). Where major impacts are expected, they are nearly always either localized or the result of cumulative actions outside the park's authority to control. The “integrity” of the resource or value is therefore not at stake.

Examples of localized impacts include impacts to aquatic vegetation at the Daley Bay crossing to build the Kabetogama-Ash River trail, or to soils or terrestrial vegetation at some undeveloped sites. Examples of major impacts resulting from actions partially or completely outside NPS control include artificial regulation of water levels in the park's four large lakes and its impacts on park hydrology, aquatic vegetation and fisheries; cumulative degradation of air quality in the region of the park and in particular visibility; changes in park area vegetation and wildlife as a result of pre-park actions (such as logging and fire suppression); and possibly the management of fisheries populations, which is jointly conducted by the park, the MDNR. To date, no major impacts to the park's sport fishery have been observed, and it is expected that through the return of more natural lake levels and the use of closures, slot limits and creation of spawning habitat to manage fisheries, no impairment of this resource is expected. The change in policies regarding lake level management will also benefit park hydrology, aquatic vegetation and wildlife. The selected alternative also includes measures aimed at reestablishing fire as a natural ecosystem process to the extent possible given visitor experience and safety constraints.

Cumulative impacts to water quality from motorized use of some of the park's lakes may have moderate to major parkwide impacts from polycyclic aromatic hydrocarbons (PAH) (ecological toxins or human carcinogens at low concentrations) released as a result of internal combustion in two stroke engines.

Although testing for the presence and/or impacts of PAHs on water quality and aquatic wildlife is needed to determine precise impacts, neither the park's water quality nor its fisheries resources appear to be in danger of impairment at this time. As noted in the final EIS (see Chapter 4, Impacts of Alternative 1—Fisheries, Conclusion): “The combination of these factors (PAH concentrations and other toxins, fishing pressure, global climate change and lake level changes) could have major adverse effects on the sport fishery. However, creel surveys indicate sport harvest remain relatively high, perhaps indicating the cumulative impact is not a major one, or that impacts are mitigated somewhat through closures, slot limits, creation of spawning habitat, and changes in water levels.”

In addition, the final EIS (see chapter 4, Impacts of Alternative 1—Water Quality) indicates while no data on PAH levels in the park's lakes is available, studies of other lakes have indicated concentrations are directly correlated with the level of motorboat activities. Motorboat use comparable to that in the park has produced concentrations above EPA criteria for the protection of human health for some PAHs. Despite the possibility of larger-scale impacts from the toxic effects of PAHs, water quality generally remains high in the park, and is identified by the state of Minnesota as class A—that is, an outstanding resource exhibiting exceptional recreational and ecological values. The integrity of the water quality resource in the park is therefore intact and no impairment has occurred or is expected to occur in the future at the ½% per year increase predicted to occur over the life of the plan. In addition, improvements in engine technology are likely to reduce PAH concentrations over this same time period.

Public Involvement

More information on the public involvement process is available by reading chapter 5 of volume 1 of the final GMP/EIS (consultation and coordination), and in response to issue 1 of the topic titled “Planning Process” in volume 2 of the final GMP/EIS.

In summary, the NPS initially invited the public to help scope the GMP/EIS in August 1998 through an announcement in the Federal Register and through a newsletter distributed by mail and in park visitor centers. Scoping input sessions were also held during August in Minneapolis/St. Paul, Duluth, Orr and International Falls. Comments made during the input sessions and written comments were summarized through a press release in December 1998.

The suggestions made by the public were used with information gathered by the NPS to develop three management approaches. These alternatives were sent out for public comment in May 1999 and public open houses held in June. The comments on these alternatives were used by the planning team to develop a fourth alternative, the draft proposed action.

The impacts of each of the four alternatives were analyzed by specialists and packaged as the draft GMP/EIS. The draft EIS was released in June 2000 and mailed to all that had returned a postcard indicating they wished to receive the document. The team conducted public open houses in International Falls, Orr, Duluth, and Minneapolis/St. Paul in July, 2000. Although the comment period was scheduled to close in August, it was extended twice and closed October 23, 2000.

The team responded to all comments that questioned facts or information that were substantive. Those that expressed an opinion for or against an alternative or action in an alternative were noted. Duplicate comments were combined. Similar comments were also combined for readability into “issues” under particular topics. The first 130 pages of volume 2 of the final GMP/EIS are two indexes to the team's responses to substantive comments. One is organized by topic and the other by author. These substantive letters are also reprinted in volume 2.

Notification of the availability of the final GMP/EIS was published on October 12, 2001, in the Federal Register.

Dated: February 14, 2002.
William W. Schenk,
Regional Director, Midwest Region.

[FR Doc. 02-8633 Filed 4-9-02; 8:45 am]

BILLING CODE 4310-70-P